DEPARTMENT OF ENERGY

Federal Energy Regulatory Commission

[Docket No. EL01-40-000]

Tucson Electric Power Company v. Gray Davis, Governor of the State of California, The State of California, and California Power Exchange Corporation; Notice of Complaint

February 28, 2001.

Take notice that on February 27, 2001, Tucson Electric Power Company (Tucson Electric) tendered for filing a complaint against the above-styled parties alleging that Respondents violated Section 203 of the Federal Power Act. In addition, Tucson Electric alleged that the California Power Exchange Corporation (“PX”) has failed to collect the duly filed rates from Pacific Gas & Electric Company and Southern California Edison Company, in accordance with the rates, terms and conditions of the PX's FERC-filed tariffs.

Copies of the filing were served upon Respondents and their known counsel, and upon the California Public Utilities Commission.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before March 19, 2001. Protests will be considered by the Commission in determining the appropriate action to be taken, but will not serve to make protestants parties to the proceedings. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before March 19, 2001. Comments and protests may be filed electronically via the internet in lieu of paper. See, 18 CFR 385.2001(a)(1)(iii) and the instructions on the Commission's web site at http://www.ferc.fed.us/efi/doorbell.htm.

David P. Boergers,
Secretary.

[FR Doc. 01-5400 Filed 3-5-01; 8:45 am]

BILLING CODE 6717-01-M